SMALL BUSINESS ADMINISTRATION

Data Collection Available for Public Comments

ACTION: 60-day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before June 1, 2021.

ADDRESSES: Send all comments to Cynthia Pitts, Director, Disaster Administrative Services, Office of Disaster Assistance, Small Business Administration.

FOR FURTHER INFORMATION CONTACT: Cynthia Pitts, Director, Disaster Administrative Services, Disaster Assistance, cynthia.pitts@sba.gov 202-205-7570, or Curtis B. Rich, Management Analyst, 202-205-7030, curtis.rich@sba.gov.

SUPPLEMENTARY INFORMATION: Application for benefits (loan) used to determine eligibility and credit worthiness of small businesses or not for profit organization who seek Federal assistance in a declared disaster. Respondents are disaster survivors seeking disaster assistance.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information. SBA proposes to revise the application form to collect information regarding race, ethnicity, and veteran status. Submission of this information is entirely voluntary and would not be a factor in processing the loan. The sole purpose for collecting this information is to help SBA determine the extent to which businesses owned and operated by veterans or members of racial and ethnic groups are benefitting from this disaster assistance program, and develop strategies and policies that could fill any perceived gaps and expand the program's reach.

Summary of Information Collection

PRA 3245-0017

(1) Title: Disaster Business Loan Application.

Description of Respondents: Disaster victims seeking disaster assistance.

Form Number: SBA Form 5.

Total Estimated Annual Responses: 2,970.

Total Estimated Annual Hour Burden: 6,295.

Curtis Rich,
Management Analyst.

[FR Doc. 2021-06587 Filed 3-30-21; 8:45 am]

BILLING CODE 8026-03-P